FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 008005-010.

Title: New York Terminal Conference Agreement.

Parties: American Stevedoring Inc.; Port Newark Container Terminal LLC; Universal Maritime Service Corp.; New York Container Terminal; and Global Terminal and Container Services.

Filing Party: George J. Lair; New York Terminal Conference; P.O. Box 875; Chatham, NJ 07928.

Synopsis: The amendment substitutes Red Hook Container Terminal, LLC for American Stevedoring, Inc. as a party to the agreement. The parties requested expedited review.

Agreement No.: 011223-047.

Title: Transpacific Stabilization Agreement.

Parties: American President Lines, Ltd. and APL Co. PTE Ltd.; (operating as a single carrier); A.P. Moller-Maersk A/S trading as Maersk Line; China Shipping Container Lines (Hong Kong) Company Limited and China Shipping Container Lines Company Limited (operating as a single carrier); CMA CGM, S.A.; COSCO Container Lines Company Ltd; Evergreen Line Joint Service Agreement; Hanjin Shipping Co., Ltd.; Hapag-Lloyd AG; Hyundai Merchant Marine Co., Ltd.; Kawasaki Kisen Kaisha Ltd.; Mediterranean Shipping Company; Nippon Yusen Kaisha; Orient Overseas Container Line Limited; Yangming Marine Transport Corp.; and Zim Integrated Shipping Services, Ltd.

Filing Party: David F. Smith, Esq.; Cozen O'Connor; 6271 I Street, NW.; Suite 1100; Washington, DC 20006.

Synopsis: The amendment would modify the voting requirement for TSA actions from a unanimous vote to a three-fourths vote.

Agreement No.: 012080-001.

Title: HMM/Hanjin Reciprocal Space Charter Agreement.

Parties: Hyundai Merchant Marine Co., Ltd. and Hanjin Shipping Co., Ltd.

Filing Parties: Robert B. Yoshitomi, Esq.; Nixon Peabody LLP; 555 West 5th Street, 46th Floor; Los Angeles, CA 90013-1025 and David F. Smith, Esq.; Sher & Blackwell LLP; 1850 M Street, NW.; Suite 900; Washington, DC 20036.

Synopsis: The amendment removes Korea from the geographic scope of them agreement and updates Hyundai's corporate address.

Agreement No.: 012118-001.

Title: CMA CGM/OOCL Victory Bridge Space Charter Agreement.

Parties: CMA CGM S.A. and Orient Overseas Container Line Limited.

Filing Party: Draughn Arbona, Esq.; Associate Counsel & Environmental Officer; CMA CGM (America) LLC; 5701 Lake Wright Drive; Norfolk, VA 23502.

Synopsis: The amendment increases the amount of space purchased by OOCL from CMA CGM.

Agreement No.: 012122-001.

Title: Grand Alliance/Zim/HMM Transpacific Vessel Sharing Agreement.

Parties: Hapag-Lloyd Aktiengesellschaft; Hyundai Merchant Marine Co., Ltd.; Nippon Yusen Kaisha; Orient Overseas Container Line Limited; and Zim Integrated Shipping Services Limited (ZIM).

Filing Party: Wayne Rohde, Esq.; Cozen O'Connor; 627 I Street, NW.; Suite 1100; Washington, DC 20006.

Synopsis: The Amendment expands the geographic scope of the Agreement to include Taiwan. The parties requested expedited review.

Agreement No.: 012137.

Title: Hapag-Lloyd/NYK-Hanjin Shipping Slot Exchange Agreement.

Parties: Hapag-Lloyd AG, Nippon Yusen Kaisha, and Hanjin Shipping Co. Ltd.

Filing Parties: Wayne R. Rohde, Esq.; Cozen O'Connor; 1627 I Street, NW.; Suite 1100; Washington, DC 20006-4007.

Synopsis: The Agreement authorizes the parties to slot charter space on their services in the trade between the U.S. Pacific Coast and Korea, China, Taiwan, Thailand, Vietnam, and Singapore.

Agreement No.: 012138.

Title: CSAV/CCNI Venezuela Space Charter Agreement.

Parties: Compana Sud Americana de Vapores S.A. and Compania Chilena de Navegacion Interoceanica S.A..

Filing Party: Walter H. Lion, Esq.; McLaughlin & Stern, LLP; 260 Madison Avenue; New York, NY 10016.

Synopsis: The agreement authorizes the parties to charter space on vessels in the trade between U.S. Gulf ports and ports in Venezuela.

Dated: October 7, 2011.
By Order of the Federal Maritime Commission.
Karen V. Gregory,
Secretary.

[FR Doc. 2011-26482 Filed 10-12-11; 8:45 am]

BILLING CODE 6730-01-P